DEPARTMENT OF THE INTERIOR

Fish and Wildlife Service

[FWS-R1-ES-2013-N261;FXES11130100000-145-FF01E00000]

Endangered and Threatened Wildlife and Plants; Recovery Permit Applications

AGENCY: Fish and Wildlife Service, Interior.

ACTION: Notice of availability; request for comments.

SUMMARY: We, the U.S. Fish and Wildlife Service, invite the public to comment on the following applications for recovery permits to conduct activities with the purpose of enhancing the survival of an endangered species. The Endangered Species Act of 1973, as amended (Act), prohibits certain activities with endangered species unless a Federal permit allows such activity. The Act also requires that we invite public comment before issuing such permits.

DATES: To ensure consideration, please send your written comments by January 21, 2014.

ADDRESSES: Program Manager for Restoration and Endangered Species Classification, Ecological Services, U.S. Fish and Wildlife Service, Pacific Regional Office, 911 NE 11th Avenue, Portland, OR 97232-4181. Please refer to the permit number for the application when submitting comments.

FOR FURTHER INFORMATION CONTACT: Colleen Henson, Fish and Wildlife Biologist, at the above address or by telephone (503-231-6131) or fax (503-231-6243).

SUPPLEMENTARY INFORMATION:

Background

The Act (16 U.S.C. 1531 et seq.) prohibits certain activities with respect to endangered and threatened species unless a Federal permit allows such activity. Along with our implementing regulations in the Code of Federal Regulations (CFR) at 50 CFR 17, the Act provides for certain permits, and requires that we invite public comment before issuing these permits for endangered species.

A permit granted by us under section 10(a)(1)(A) of the Act authorizes the permittee to conduct activities (including take or interstate commerce) with respect to U.S. endangered or threatened species for scientific purposes or enhancement of propagation or survival. Our regulations implementing section 10(a)(1)(A) of the Act for these permits are found at 50 CFR 17.22 for endangered wildlife species, 50 CFR 17.32 for threatened wildlife species, 50 CFR 17.62 for endangered plant species, and 50 CFR 17.72 for threatened plant species.

Applications Available for Review and Comment

We invite local, State, and Federal agencies, and the public to comment on the following applications. Please refer to the appropriate permit number for the application when submitting comments.

Documents and other information submitted with these applications are available for review by request from the Program Manager for Restoration and Endangered Species Classification at the address listed in the ADDRESSES section of this notice, subject to the requirements of the Privacy Act (5 U.S.C. 552a) and the Freedom of Information Act (5 U.S.C. 552).

Permit Number: TE-19239B

Applicant: Washington Department of Fish and Wildlife, Olympia, Washington.

The applicant requests a new recovery permit to take (survey, monitor habitat restoration, collect, captive rear and breed, and reintroduce) the Taylor's checkerspot butterfly (Euphydryas editha taylori) in Oregon and Washington for the purpose of enhancing the species' survival.

Permit Number: TE-21614B

Applicant: Oregon Department of Fish and Wildlife, Salem, Oregon.

The applicant requests a new recovery permit to take (haze, capture, and relocate) the Columbian white-tailed deer (Odocoileus virginianus leucurus) in conjunction with a translocation effort in the State of Washington for the purpose of enhancing the species' survival.

Permit Number: TE-702631

Applicant: Assistant Regional Director, Ecological Services, Fish and Wildlife Service, Pacific Region, Portland, Oregon.

The applicant requests a renewal of their recovery permit for scientific take activities. This permit would allow Service employees, and their designated agents, to take, or remove and reduce to possession, all federally listed species in the States of Idaho, Hawaii, Oregon, and Washington, and the trust territories of the Pacific Islands in conjunction with recovery activities for scientific purposes or for enhancing their propagation or survival. A list of federally listed species covered by this permit is available at the following Web site: http://www.fws.gov/pacific/ecoservices/endangered/recovery/documents/TE-702631-25R1SpeciesList2013.pdf

Permit Number: TE-22353B

Applicant: Center for Natural Lands Management, Temecula, California.

The applicant requests a new recovery permit to take (conduct habitat restoration activities and survey) the Taylor's checkerspot butterfly (Euphydryas editha taylori) in Oregon and Washington for the purpose of enhancing the species' survival.

Permit Number: TE-146777

Applicant: Arleone Dibben-Young, Kaunakakai, Hawaii.

The applicant requests renewal of their recovery permit to take (capture, measure, band, mark, release, and recapture) the ae`o or Hawaiian stilt (Himantopus mexicanus knudseni) and the koloa or Hawaiian duck (Anas wyvilliana), and take (capture, measure, band, mark, take oropharyngeal and cloacal swabs, release, and recapture) the `alae ke1oke`o or Hawaiian coot (Fulica alai) for the purposes of scientific research and enhancing the species' survival.

Public Availability of Comments

All comments and materials we receive in response to this request will be available for public inspection, by appointment, during normal business hours at the address listed in the ADDRESSES section of this notice.

Before including your address, phone number, email address, or other personal identifying information in your comment, you should be aware that your entire comment—including your personal identifying information—may be made publicly available at any time. While you can ask us in your comment to withhold your personal identifying information from public review, we cannot guarantee that we will be able to do so.

Authority

We provide this notice under section 10 of the Act (16 U.S.C. 1531 et seq.)

Dated: December 13, 2013.
Colleen M. Henson,
Regional Director, Pacific Region, U.S. Fish and Wildlife Service.

[FR Doc. 2013-30307 Filed 12-19-13; 8:45 am]

BILLING CODE 4310-55-P